ENVIRONMENTAL PROTECTION AGENCY

[FRL-8957-7]

Children's Health Protection Advisory Committee (CHPAC); Notice of Charter Renewal

AGENCY: Environmental Protection Agency (EPA).

ACTION: Notice of Charter Renewal.

Notice is hereby given that the Environmental Protection Agency (EPA) has determined that, in accordance with the provisions of the Federal Advisory Committee Act (FACA), 5 U.S.C. App. 2. The Children's Health Protection Advisory Committee (CHPAC) is a necessary committee which is in the public interest. Accordingly, CHPAC will be renewed for an additional two-year period. The purpose of CHPAC is to provide advice and recommendations to the Administrator of EPA on issues associated with development of regulations, guidance and policies to address children's health risks.

Inquiries may be directed to Carolyn Hubbard, Designated Federal Officer, CHPAC, U.S. EPA, OCHP MC 1107A, 1200 Pennsylvania Avenue, NW., Washington, DC 20460. Hubbard.carolyn@epa.gov, 202-564-2189.

Dated: September 11, 2009.
Martha Shimkin,
Division Director, Office of Children's Health Protection, and Environmental Education, Child and Aging, Health Protection Division.

[FR Doc. E9-22320 Filed 9-16-09; 8:45 am]

BILLING CODE 6560-50-M